FEDERAL COMMUNICATIONS COMMISSION

47 CFR Part 73

[MB Docket No. 22-114; RM-11920; DA-22-248; FRS 77585]

Television Broadcasting Services Bozeman, Montana

AGENCY: Federal Communications Commission.

ACTION: Proposed rule.

SUMMARY: The Commission has before it a petition for rulemaking filed by Scripps Broadcasting Holdings LLC (Petitioner), the licensee of KBZK, channel 13, Bozeman, Montana. The Petitioner requests the substitution of channel 27 for channel 13 at Bozeman in the Table of Allotments.

DATES: Comments must be filed on or before April 21, 2022 and reply comments on or before May 6, 2022.

ADDRESSES: Federal Communications Commission, Office of the Secretary, 45 L Street NE, Washington, DC 20554. In addition to filing comments with the FCC, interested parties should serve counsel for the Petitioner as follows: Christina A. Burrow, Esq., Cooley LLP, 1299 Pennsylvania Avenue NW, Washington, DC 20004-2400.

FOR FURTHER INFORMATION CONTACT: Joyce Bernstein, Media Bureau, at (202) 418-1647 or Joyce.Bernstein@fcc.gov.

SUPPLEMENTARY INFORMATION: In support, the Petitioner states that the Commission has recognized that VHF channels have certain characteristics that pose challenges for their use in providing digital television service, including propagation characteristics that allow undesired signals and noise to be receivable at relatively far distances. According to the Petitioner, it has received many complaints from viewers unable to receive a reliable signal on channel 13. The Engineering Statement provided with the Petition confirms that the proposed channel 27 contour would continue to reach virtually all of the population within the Station's current service area and fully cover the city of Bozeman. An analysis using the Commission's TVStudy software tool indicates that KBZK's move from channel 13 to channel 27 is predicted to create a small area where 675 persons are predicted to lose service. The loss area, however, is partially overlapped by the noise limited contour of Scripps' owned television station KXLF-TV, Butte, Montana, which is also a CBS network affiliate, and reduces the number who are predicted to lose CBS network service to less than 500 persons, which Petitioner argues is de minimis.

This is a synopsis of the Commission's Notice of Proposed Rulemaking, MB Docket No. 22-114; RM-11920; DA 22-248, adopted March 10, 2022, and released March 10, 2022. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a). See §§ 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622(j), amend the Table of Allotments under Montana by revising the entry for Bozeman to read as follows:

§ 73.622 Digital television table of allotments.

* * * * *

(j) * * *

Community | Channel No.
* * * * *
MONTANA
* * * * *
Bozeman | *8, 27
* * * * *

[FR Doc. 2022-05933 Filed 3-21-22; 8:45 am]

BILLING CODE 6712-01-P